DEPARTMENT OF ENERGY

Federal Energy Regulatory Commission

Combined Notice of Filings

Take notice that the Commission has received the following Natural Gas Pipeline Rate and Refund Report filings:

Filings Instituting Proceedings

Docket Number: PR17-20-001.

Applicants: Atmos Pipeline-Texas.

Description: Tariff filing per 284.123(b), (e): Atmos Pipeline—Texas, Further Revisions to Statement of Operating Conditions to be effective 12/21/2016; Filing Type: 1000.

Filed Date: 3/10/17.

Accession Number: 201703105288.

Comments/Protests Due: 5 p.m. ET 3/31/17.

Docket Numbers: RP17-529-001.

Applicants: Iroquois Gas Transmission System, L.P.

Description: Iroquois Gas Transmission System, L.P. submits tariff filing per 154.205(b): 03/14/17 Negotiated Rates—Consolidated Edison Energy Inc. (HUB) 2275-89 to be effective 3/11/2017.

Filed Date: 03/15/2017.

Accession Number: 20170315-5062.

Comment Date: 5:00 p.m. Eastern Time on Monday, March 27, 2017.

Docket Numbers: RP17-536-000.

Applicants: Natural Gas Pipeline Company of America.

Description: Natural Gas Pipeline Company of America LLC submits tariff filing per 154.204: North Shore Gas Negotiated Rate to be effective 4/1/2017.

Filed Date: 03/15/2017.

Accession Number: 20170315-5106.

Comment Date: 5:00 p.m. Eastern Time on Monday, March 27, 2017.

Docket Numbers: RP17-537-000.

Applicants: Natural Gas Pipeline Company of America.

Description: Natural Gas Pipeline Company of America LLC submits tariff filing per 154.204: Enstor Energy Services Negotiated Rate to be effective 4/1/2017.

Filed Date: 03/15/2017.

Accession Number: 20170315-5137.

Comment Date: 5:00 p.m. Eastern Time on Monday, March 27, 2017.

Docket Numbers: RP17-538-000.

Applicants: Golden Triangle Storage, Inc.

Description: Golden Triangle Storage, Inc. submits tariff filing per 154.204: GTS Capacity Release Revisions to be effective 4/17/2017.

Filed Date: 03/15/2017.

Accession Number: 20170315-5142.

Comment Date: 5:00 p.m. Eastern Time on Monday, March 27, 2017.

Docket Numbers: RP17-350-001.

Applicants: Eastern Shore Natural Gas Company.

Description: Eastern Shore Natural Gas Company submits tariff filing per 154.206: Motion to Place Suspended Tariff Record Into Effect to be effective 3/16/2017.

Filed Date: 03/16/2017.

Accession Number: 20170316-5158.

Comment Date: 5:00 p.m. Eastern Time on Tuesday, March 28, 2017.

Docket Numbers: RP17-539-000.

Applicants: Iroquois Gas Transmission System, L.P.

Description: Iroquois Gas Transmission System, L.P. submits tariff filing per 154.204: 03/16/17 Negotiated Rates—Consolidated Edison Energy Inc. (HUB) 2275-89 to be effective 3/15/2017.

Filed Date: 03/16/2017.

Accession Number: 20170316-5075.

Comment Date: 5:00 p.m. Eastern Time on Tuesday, March 28, 2017.

Docket Numbers: RP17-540-000.

Applicants: Panhandle Eastern Pipe Line Company, LP.

Description: Panhandle Eastern Pipe Line Company, LP submits tariff filing per 154.203: Flow Through of Penalty Revenues Report filed on 3-16-17.

Filed Date: 03/16/2017.

Accession Number: 20170316-5076.

Comment Date: 5:00 p.m. Eastern Time on Tuesday, March 28, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2017.
Nathaniel J. Davis, Sr.,
Deputy Secretary.

[FR Doc. 2017-05876 Filed 3-23-17; 8:45 am]

BILLING CODE 6717-01-P